DEPARTMENT OF THE INTERIOR

Bureau of Land Management

[AZ-320-07-1232-FH-AZ21; 1232]

Notice of Special Recreation Permit Fee Adjustments and Supplementary Rule Revision for Use of All Arizona and California Long-Term Visitor Areas

AGENCY: Bureau of Land Management, Interior.

ACTION: Adjustment of Special Recreation Permit fees and revision of supplementary rules for Long-Term Visitor Areas managed by the California Desert District, California, and the Colorado River District, Arizona.

SUMMARY: The Bureau of Land Management (BLM) Yuma, Palm Springs-South Coast, and El Centro Field Offices are: (1) Adjusting the Special Recreation Permit (SRP) fees for recreational use of Long-Term Visitor Areas (LTVA), and (2) amending the supplementary rules applying to the LTVA Program. The BLM State Directors are authorized to adjust SRP fees for recreational use of special areas, as they find it necessary (43 CFR 2932.31(d)). The amendment of the supplementary rules is only a technical change that eliminates the need to reprint the Supplementary Rule pamphlet after every change in the LTVA fee schedule. The amendment is not a substantive change in the visitor rules of conduct for the LTVAs.

DATES: Effective date: September 25, 2007.

ADDRESSES: You may send inquiries or suggestions to the BLM Yuma Field Office, 2555 East Gila Ridge Road, Yuma, Arizona 85365; the BLM Palm Springs/South Coast Field Office, P.O. Box 581260 (690 West Garnet Avenue); the North Palm Springs, California 92258; or the BLM El Centro Field Office, 1661 South 4th Street, El Centro, California 92243.

FOR FURTHER INFORMATION CONTACT: BLM Yuma Field Office, Mark Lowans, Assistant Field Manager for Recreation and Visitor Services, 928-317-3200; BLM Palm Springs Field Office, Mona Daniels, Outdoor Recreation Planner, 760-251-4800; or BLM El Centro Field Office, Dallas Meeks, Outdoor Recreation Planner, 760-337-4400.

SUPPLEMENTARY INFORMATION:

I. Discussion of the LTVA Program

The BLM's LTVA program was established in 1983 to meet the long-term camping needs of winter visitors staying on the public lands. The LTVAs have been designated as “special areas” where it has been determined that the resources require special management and control measures for their protection, and where a permit system for individual use would achieve management objectives. All of the LTVAs have been designated as special areas in compliance with the BLM's land use planning process, outlined in 43 CFR part 1600 et seq. The designation of LTVAs ensures that suitable locations are available for long-term use year after year and that areas with sensitive natural and cultural resources are not used for extended periods of time. The requirements for special areas can be found in 43 CFR part 2932 et seq.

The BLM manages seven LTVAs. The Yuma Field Office manages the La Posa and Imperial Dam LTVAs; the El Centro Field Office manages the Tamarisk, Pilot Knob, and Hot Spring LTVAs; and the Palm Springs/South Coast Field Office manages the Mule Mountain and Midland LTVAs. The LTVAs are located in La Paz County, Arizona, and Imperial and Riverside Counties, California.

II. Discussion of Special Recreation Permit Fees

Visitors must purchase a long-term or short-visit SRP for recreational use of the LTVAs. An SRP for use of the LTVAs is valid at all seven LTVAs for the duration of the permit's validity. Except for areas closed to camping and other designated recreation fee sites, visitors may stay free of charge on public lands outside of LTVAs for up to 14 days in any 28-day period.

The BLM has periodically adjusted SRP fees for use of the LTVAs since the LTVA program began to cover rising labor, administrative, and supply costs. The LTVA SRP fees were last adjusted in 2003. The following LTVA fee adjustments will be implemented on September 25, 2007: Increase the long-term (7-month) permit fee from $140 to $180, and increase the short-visit (14-day) permit fee from $30 to $40.

The authority for the BLM to require the purchase of a SRP for recreational use within special areas is contained in 43 CFR 2932.11(b). The authority for the BLM State Directors to adjust SRP fees for use of special areas is contained in 43 CFR 2932.31(d)(2).

III. Discussion of Public Outreach Efforts

The LTVA fees were originally proposed to be adjusted in the BLM Yuma Field Office's Draft Recreation and Visitor Services Business Plan. The draft business plan was released for a 30-day public review and comment period in November 2005 and again in December 2006. During both public review and comment periods, the BLM posted the business plan on the BLM Yuma Field Office Web site and placed public notices in two local newspapers and on all LTVA informational kiosks. For the 2005 public review and comment period, postcards were sent to over 1,700 individuals, organizations, and agencies notifying them of the business plan's proposals and their opportunity to comment. During the 2006 public review and comment period, the BLM held two informational meetings at the LTVAs to describe the proposed fee adjustments. Approximately 150 people attended the meetings.

The BLM received 111 written comments concerning the LTVA fee adjustment proposals, with 55 comments received in 2005 and 56 received in 2006. Of these 111 comments, 22 supported the proposed LTVA fees; 28 supported the proposed fees, but recommended reducing the amount of the increase; 51 opposed the proposed fees; 9 did not support or oppose the fees, but recommended recreation facility improvement projects for the BLM to prioritize; and 1 comment was outside the scope of the business plan. Comments were accepted via mail, fax, or e-mail, and no comment was received from recreational clubs or organizations.

The BLM Arizona Resource Advisory Council (RAC) has the authority to review all BLM and Forest Service recreation fee proposals in Arizona. On March 8, 2007, the BLM presented the LTVA fee adjustment proposal and public comment results to the Arizona RAC. A Federal Register notice was published alerting the public of the March meeting and their opportunity to provide comments on the fee proposals, and no public comment was received. After the hearing, the Arizona RAC voted to support the LTVA fee proposal as presented and recommended that the BLM proceed with its implementation.

The public had opportunity to comment on this procedure during the comment periods discussed in this section of the preamble, and this technical amendment of the supplementary rules simply effectuates the procedure for adjusting fees presented in the Federal Register notice of February 26, 2007 (72 FR 8396), which invited comment at the RAC meeting that it announced. The Department of the Interior, therefore, for good cause finds under 5 U.S.C. 553(b)(B) and (d)(3) that notice and public comment procedures are unnecessary, and that the rule may be effective the date of publication.

IV. Discussion of Supplementary Rules

The supplementary LTVA rules apply year-round to all public land users within the LTVAs in Arizona and California. The BLM has determined that these supplementary rules for visitor conduct are necessary to provide for public safety and health and to reduce the potential damage to natural and cultural resources of the public lands. The supplementary rules have been developed to meet the goals and objectives of the three Field Office resource management plans. Pamphlets with these rules are available in each Field Office managing an LTVA, are posted at all LTVA sites and facilities, and are provided to all visitors who purchase an LTVA permit.

The revision of the supplementary LTVA rules would affect Section 1 only. Section 1 currently reads as follows:

Section 1. Permit Requirements and Fees

You must have a permit to camp in a designated LTVA between September 15 and April 15. The permit authorizes you to camp within any designated LTVA using those camping or dwelling unit(s) indicated on the permit between the periods from September 15 to April 15. There are two types of permits: Long-Term and Short-Visit. The long-term permit fee is $140, U.S. funds only, for the entire season or any part of the season. The short-visit permit is $30, U.S. funds only, for 14 consecutive days. The short-visit permit may be renewed an unlimited number of times for the cost of $30 for 14 consecutive days. The BLM will not refund permit fees.

The BLM is revising Section 1 of the supplementary LTVA rules to read as follows:

Section 1. Permit Requirements and Fees

You must have a permit to use a designated LTVA between September 15 and April 15. The permit authorizes you to camp within any designated LTVA using those camping or dwelling unit(s) indicated on the permit between the periods from September 15 to April 15. There are two types of permits: Long-Term and Short-Visit. The long-term permit is valid for the entire season or any part of the season. The short-visit permit is valid for 14 consecutive days, and may be renewed an unlimited number of times for the cost of the permit. LTVA users must pay the cost of the fee indicated on the LTVA permit, U.S. funds only, before or upon arrival. The BLM will not refund permit fees.

As Section 1 of the supplementary LTVA rules now reads, the BLM must pay to have the entire LTVA rule pamphlet reprinted and redistributed every time the LTVA fees are adjusted. The revision of the supplementary LTVA rules will reduce the BLM's long-term costs associated with the printing and distribution of the LTVA rule pamphlet. The BLM would continue to allow for comment on future LTVA fee adjustment proposals through public review meetings, announcements, and comment periods of LTVA program business plans, Federal Register notices, and other appropriate means as required by Federal law and BLM policy.

The authority for establishing supplementary rules is contained in 43 CFR 8365.1-6. Violations of supplementary rules are punishable by a fine not to exceed $100,000 and/or imprisonment not to exceed 12 months, as provided in Section 303 of the Federal Land Policy and Management Act (43 U.S.C. 1733), and the Sentencing Reform Act (18 U.S.C. 3571).

V. Procedural Information

Executive Order (E.O.) 12866, Regulatory Planning and Review

The LTVA fee adjustments and supplementary rule revision are not significant regulatory actions and are not subject to review by the Office of Management and Budget under E.O. 12866. The actions would not have an effect of $1,000,000 or more on the economy. They are directed at the effective management of the BLM's LTVA Program. They would not adversely affect, in a material way, the economy, productivity, competition, jobs, the environment, public health or safety, or state, local, or tribal governments or communities. These actions do not create a serious inconsistency or otherwise interfere with an action taken or planned by another agency. The actions would not alter the budgetary effects of entitlements, grants, user fees, or loan programs or the rights or obligations of their recipients; nor would they raise novel legal or policy issues.

Clarity of the Proposed SRP Fee Adjustments and Supplementary Rule Revision

E.O. 12866 requires each agency to write regulations that are simple and easy to understand. We invite your comments on how to make these proposed supplementary rules easier to understand, including answers to questions such as the following: (1) Are the requirements in the proposed supplementary rules clearly stated? (2) Do the proposed supplementary rules contain technical language or jargon that interferes with their clarity? (3) Does the format of the supplementary rules (grouping and order of sections, use of headings, paragraphing, etc.) aid or reduce their clarity? (4) Would the supplementary rules be easier to understand if they were divided into more (but shorter) sections? (5) Is the description of the supplementary rules in the SUPPLEMENTARY INFORMATION section of this preamble helpful to your understanding of the proposed supplementary rules? (6) How could this description be more helpful in making the supplementary rules easier to understand?

Please send any comments you have on the clarity of the supplementary rules to the address specified in the ADDRESSES section.

National Environmental Policy Act of 1969

The BLM has prepared National Environmental Policy Act (NEPA) documents, including the Yuma District Resource Management Plan and Environmental Impact Statement (1988), the La Posa Interdisciplinary Management Plan and Environmental Assessment (1997), and the California Desert Conservation Area Plan and Environmental Impact Statement (1980), for the delineation and management of the LTVA program that this amended supplementary rule supports. These NEPA documents concluded that the designation of LTVAs, the collection of SRP fees, and the supplementary LTVA rules do not constitute major Federal actions significantly affecting the quality of the human environment under Section 102(2)(C) of NEPA and 42 U.S.C. 4332(2)(C). All relevant NEPA documents are available for public review within the BLM Field Offices listed in the FOR FURTHER INFORMATION CONTACT section of this notice.

Furthermore, the BLM has determined that this rule is administrative and involves only procedural changes addressing fee requirements. Therefore, it is categorically excluded from environmental review under Section 102(2)(C) of NEPA, pursuant to 516 Departmental Manual (DM) 2.3A and 516 DM 2, Appendix 1, Item 1.10.

In addition, the rule does not meet any of the 10 criteria for exceptions to categorical exclusions listed in 516 DM 2, Appendix 2. Pursuant to Council on Environmental Quality regulations (40 CFR 1508.4) and the environmental policies and procedures of the DOI, the term “categorical exclusions” means categories of actions which do not individually or cumulatively have a significant effect on the human environment and which have been found to have no such effect in procedures adopted by a Federal agency and therefore require neither an Environmental Assessment or an Environmental Impact Statement.

Regulatory Flexibility Act of 1980

Congress enacted the Regulatory Flexibility Act (RFA), as amended, 5 U.S.C. 601-612, to ensure that government regulations do not unnecessarily or disproportionately burden small entities. The RFA requires a regulatory flexibility analysis if a rule would have a significant economic impact, either detrimental or beneficial, on a substantial number of small entities.

The fees and supplementary rules for the BLM's LTVA Program do not pertain specifically to commercial or governmental entities of any size but contain rules to protect the health and safety of individuals, property, and resources on the public lands. Therefore, the BLM has determined under the RFA that the proposals do not have a significant economic impact on a substantial number of small entities.

Small Business Regulatory Enforcement Fairness Act of 1996

The supplementary LTVA rules do not constitute a major rule as defined in the Small Business Regulatory Enforcement Fairness Act at 5 U.S.C. 804(2). The supplementary rules pertain only to individuals who purchase an SRP for recreational use of the LTVAs. In this respect, the regulation of such use is necessary to protect the public lands, facilities, and those, including small business concessionaires, who use them. The supplementary rules have no effect on business, commercial, or industrial uses of the public lands.

Unfunded Mandates Reform Act of 1995

The actions do not impose an unfunded mandate on state, local, or tribal governments or the private sector of more than $1,000,000 per year, nor do these proposals have a significant or unique effect on state, local, or tribal governments or the private sector. The actions do not require any actions of state, local, or tribal governments. Therefore, the BLM is not required to prepare a statement containing the information required by the Unfunded Mandates Reform Act (2 U.S.C. 1531 et seq.).

E.O. 12630, Governmental Actions and Interference With Constitutionally Protected Property Rights (Takings)

The actions do not represent a government action capable of interfering with constitutionally protected property rights. The proposals do not address property rights in any form and do not cause the impairment of anyone's property rights. Therefore, DOI has determined that the proposals would not cause a taking of private property or require further discussion of takings implications under this E.O.

E.O. 13132, Federalism

The actions would not have a substantial direct effect on states, on the relationship between the National Government and the states, or on the distribution of power and responsibilities among the various levels of government. The supplementary rules apply in Arizona and California and do not address jurisdictional issues involving the State governments. Therefore, in accordance with E.O. 13132, the BLM has determined that these actions do not have sufficient Federalism implications to warrant preparation of a Federalism Assessment.

E.O. 13175, Consultation and Coordination With Indian Tribal Governments

In accordance with E.O. 13175, we have found that these actions would not include policies that have tribal implications. The actions would not affect lands held for the benefit of Indians, Aleuts, and Eskimos. The supplementary rules would apply only to persons engaged in long-term camping on certain designated public lands in Arizona and California.

E.O. 13211, Actions Concerning Regulations That Significantly Affect Energy Supply, Distribution, or Use

The actions are not a significant energy action and would not have an adverse effect on energy supplies. The actions would have no discernible effect on the production or sale of energy minerals. Any effect on the consumption of energy minerals, either from visitors traveling to the LTVAs or from the manufacture of camping, mobile home, or trailer equipment, would be imperceptible.

Paperwork Reduction Act of 1995

The supplementary rules do not contain information collection requirements that the Office of Management and Budget must approve under the Paperwork Reduction Act, 44 U.S.C. 3501 et seq.

Author

The principal author of this notice is Aaron Curtis, assisted by Mark Lowans, both of the BLM Yuma Field Office, Arizona.

Notwithstanding the fact that only Section 1 of the supplementary rules for LTVAs is being amended by removing reference to specific dollar amounts, we present in this notice the new fee schedule and the entire set of supplementary rules for the convenience of the public. If there is a future need to adjust the LTVA fees, notice of that adjustment would be provided in accordance with the requirements of the Recreation Enhancement Act of 2004 (Pub. L. 108-447) and/or other applicable authority, and specific dollar amounts would be posted on site and published in local newspapers of general circulation.

For the reasons stated in the Preamble, and under the authority of 43 CFR 2932.31 and 43 CFR 8365.1-6, the BLM is adjusting the Special Recreation Permit fees and revising the supplementary rules for recreational use of Long-Term Visitor Areas in Arizona and California as follows:

Special recreation permit fees for use of long term visitor areas in Arizona and California, effective September 25, 2007.

Long-term permit (valid for up to 7 months): $180.00

Short-visit permit (valid for 14 days): $40.00

Supplementary Rules for Use of Long-Term Visitor Areas in Arizona and California

The following are the supplementary rules for the designated Long-Term Visitor Areas (LTVA), and are in addition to the rules of conduct set forth in 43 CFR subpart 8365. The supplementary rules apply year-long to all public land users who enter the LTVAs.

Section 1. Permit Requirements and Fees

You must have a permit to use a designated LTVA between September 15 and April 15. The permit authorizes you to camp within any designated LTVA using those camping or dwelling unit(s) indicated on the permit between the periods from September 15 to April 15. There are two types of permits: Long-term and Short-visit. The long-term permit is valid for the entire season or any part of the season. The short-visit permit is valid for 14 consecutive days, and may be renewed an unlimited number of times for the cost of the permit. LTVA users must pay the cost of the fee indicated on the LTVA permit, U.S. funds only, upon arrival. The Bureau of Land Management (BLM) will not refund permit fees.

Section 2. Displaying the Permit

To make it valid, at the time of purchase, you must affix your short-visit permit decal or long-term permit decal, using the adhesive backing, to the bottom right-hand corner of the windshield of all transportation vehicles and in a clearly visible location on all camping units. You may use no more than two secondary vehicles within the LTVA.

Section 3. Permit Transfers

You may not reassign or transfer your permit.

Section 4. Permit Revocation

An authorized BLM officer may revoke, without reimbursement, your LTVA permit if you violate any BLM rule or regulation, or if your conduct or that of your family, guest, or pets is inconsistent with the goal of BLM's LTVA Program. Failure to return any LTVA permit to an authorized BLM officer upon demand is a violation of these supplementary rules. If the BLM revokes your permit, you must remove all of your property and leave the LTVA system within 12 hours of notice, and you may not enter any other LTVA in Arizona or California for the remainder of the LTVA season.

Section 5. Unoccupied Camping Units

Do not leave your LTVA camping unit or campsite unoccupied for a period of greater than 5 days unless an authorized BLM officer approves in advance.

Section 6. Parking

For your safety and privacy, you must maintain a minimum of 15 feet of space between dwelling units.

Section 7. Removal of Wheels and Campers

Campers, trailers, and other dwelling units must remain mobile. Wheels must remain on all wheeled vehicles. You may set trailers and pickup campers on jacks manufactured for that purpose.

Section 8. Quiet Hours

Quiet hours are from 10 p.m. to 6 a.m. under applicable state time zone standards, or as otherwise posted.

Section 9. Noise

Do not operate audio devices or motorized equipment, including generators, in a manner that makes unreasonable noise as determined by the authorized BLM officer. Outdoor amplified music is allowed only within La Posa and Imperial Dam LTVAs and only in locations designated by the BLM and when approved in advance by an authorized BLM officer.

Section 10. Access

Do not block roads or trails commonly in public use with your parked vehicles, stones, wooden barricades, or by any other means.

Section 11. Structures and Landscaping

a. Fixed fences, dog runs, storage units, windbreaks, and other such structures are prohibited. Temporary structures of these types must conform to posted policies.

b. Do not alter the natural landscape by painting rocks or defacing or damaging any natural or archaeological feature.

Section 12. Livestock

Boarding or keeping livestock (horses, cattle, sheep, goats, etc.) within LTVA boundaries is prohibited.

Section 13. Pets

Pets must be kept on a leash at all times. Keep an eye on your pets. Unattended and unwatched pets may fall prey to coyotes or other desert predators. You are responsible for clean-up and sanitary disposal of your pet's waste.

Section 14. Cultural Resources

Do not disturb any archaeological or historical values including, but not limited to, petroglyphs, ruins, historic buildings, and artifacts that may occur on public lands.

Section 15. Trash

You must place all trash in designated receptacles. Public trash facilities are shown in the LTVA brochure. Do not deposit trash or holding-tank sewage in vault toilets. An LTVA permit is required for trash disposal within all LTVA campgrounds. You may not change motor oil, vehicular fluids, or dispose of or possess these used substances within an LTVA.

Section 16. Dumping

Do not dump sewage, gray water, or garbage on the ground. This includes motor oil and any other waste products. Federal, State, and county sanitation laws and county ordinance specifically prohibit these practices. Sanitary dump station locations are shown in the LTVA brochure. You must have an LTVA permit for dumping within all LTVA campgrounds.

Section 17. Self-Contained Vehicles

a. In Pilot Knob, Midland, Tamarisk, and Hot Springs LTVAs, you may camp only in self-contained camping units. The La Posa, Imperial Dam, and Mule Mountain LTVAs are restricted to self-contained camping units, except within 500 feet of a vault or restroom.

b. Self-contained camping units must have a permanent, affixed waste water holding tank of 10-gallon minimum capacity. The BLM does not consider port-a-potty systems, systems that utilize portable holding tanks, or permanent holding tanks of less than 10-gallon capacity, to be self-contained.

Section 18. Campfires

You may have campfires in LTVAs, subject to all local, State, and Federal regulations. You must comply with posted rules.

Section 19. Wood Collection

Do not collect wood within LTVAs. You may not possess native firewood(i.e., mesquite, ironwood, palo verde) within LTVAs. Please contact the nearest BLM office for current regulations concerning wood collection.

Section 20. Speed Limit

The speed limit in LTVAs is 15 miles per hour or as otherwise posted.

Section 21. Off-Highway Vehicle Use

Motorized vehicles must remain on existing roads, trails, and washes.

Section 22. Vehicle Use

Do not operate any vehicle in violation of State or local laws and regulations relating to use, standards, registration, operation, and inspection.

Section 23. Firearms

Do not discharge or otherwise use firearms or weapons inside or within 1/2 mile of LTVAs.

Section 24. Vending Permits

You must have a vending permit to carry on any commercial activity. Please contact the nearest BLM office for information on vending or concession permits.

Section 25. Aircraft Use

Do not land or take off in aircraft, including ultralights and hot air balloons, in LTVAs.

Section 26. Perimeter Camping

Do not camp within 1 mile outside the boundaries of Hot Springs, Tamarisk, and Pilot Knob LTVAs and within 2 miles outside the boundary of Midland LTVA.

Section 27. Hot Springs Spa and Day Use Area

Food, beverages, glass containers, soap, pets, and/or motorized vehicles are prohibited within the fenced-in area at the Hot Springs Spa. Day use hours are 5 a.m. to midnight.

Section 28. Mule Mountain LTVA

You may camp only at designated sites within Wiley's Well and Coon Hollow campgrounds. You may have only 1 camping or dwelling unit per site.

Section 29. Imperial Dam and La Posa LTVAs

Do not camp overnight in desert washes in Imperial Dam and La Posa LTVAs.

Section 30. La Posa LTVA

You may enter La Posa LTVA only by legal access roads along U.S. Highway 95. Do not create or use any other access points. Do not remove or modify barricades, such as fences, ditches, and berms.

Section 31. Posted Rules

You must observe and obey all posted rules. Individual LTVAs may have additional specific rules in addition to these supplementary rules. If posted rules differ from these supplementary rules, the posted rules take precedence.

Section 32. Other Laws

If you hold an LTVA permit, you must observe and obey all Federal, State, and local laws and regulations applicable to the LTVA.

Section 33. Campsite Maintenance

You must keep the LTVA and, specifically, your campsite, in a neat, orderly, and sanitary condition.

Section 34. Length of Stay

Between April 16 and September 14, you may stay in an LTVA only 14 days in any 28-day period. After your 14th day of occupation at an LTVA, you must move outside of a 25-mile radius of that LTVA.

Section 35. Penalties

Under 43 CFR 2932.56(b), if you knowingly and willfully violate or fail to comply with any of the supplementary rules provided in this notice, the BLM will revoke your LTVA permit. You may also be subject to issuance of a citation and/or arrest with a fine under 18 U.S.C. 3571 and/or imprisonment under 18 U.S.C. 3581, and the Federal Land Policy and Management Act of 1976 (43 U.S.C. 1733(a)).

Authorities: 43 U.S.C. 1701 et seq.

Helen M. Hankins,
Arizona Associate State Director.
Mike Pool,
California State Director.

[FR Doc. E7-18896 Filed 9-24-07; 8:45 am]

BILLING CODE 4310-32-P